DEPARTMENT OF ENERGY

Federal Energy Regulatory Commission

[Docket Nos. CP17-471-000; PF17-2-000]

Paiute Pipeline Company; Notice of Application

On July 5, 2017, Paiute Pipeline Company (Paiute), P.O. Box 94197, Las Vegas, Nevada 89193-4197, filed an application pursuant to sections 7(b) and 7(c) of the Natural Gas Act (NGA) and the Federal Energy Regulatory Commission's (Commission) regulations seeking for a certificate of public convenience and necessity authorizing Paiute to abandon and replace certain pipeline facilities, and to construct and operate certain pipeline and associated facilities located in Douglas County, Lyon County, and Carson City, Nevada (2018 Expansion Project or Project), all as more fully set forth in the application, which is open to the public for inspection. The filing may also be viewed on the web at http://www.ferc.gov using the “eLibrary” link. Enter the docket number excluding the last three digits in the docket number field to access the document. For assistance, contact FERC at FERCOnlineSupport@ferc.gov or call toll-free, (866) 208-3676 or TTY, (202) 502-8659.

Any questions regarding the Paiute application should be directed to Mark A. Litwin, Vice President/General Manager, Paiute Pipeline Company, P.O. Box 94197, Las Vegas, Nevada 89193-4197, or (702) 364-3195, or by email mark.litwin@swgas.com.

Specifically, the 2018 Expansion Project will involve: (1) Installation of 0.42 miles of a new 12-inch-diameter steel pipeline loop, (2) installation of 4.19 miles of a new 20-inch-diameter steel pipeline loop, (3) abandonment and replacement of 1.58 miles of existing 8-inch-diameter steel pipeline with 12-inch-diameter steel pipeline, (4) replacement of 2.27 miles of existing 10-inch-diameter steel pipeline with 20-inch-diameter steel pipeline, and (5) installation of associated auxiliary or appurtenant facilities. The Project is designed to provide incremental firm transportation services of 5,635 dekatherms per day on Paiute's system. Paiute proposes an initial incremental rate to recover the costs of the Project facilities. The estimated cost for Paiute's construction of the Project is $17,950,000.

On October 24, 2016, Commission staff granted Paiute's request to use the pre-filing process and assigned Docket No. PF17-2-000 to staff activities involving the Projects. Now, as of the filing of this application on July 5, 2017, the NEPA Pre-Filing Process for this project has ended. From this time forward, this proceeding will be conducted in Docket No. CP17-471-000 as noted in the caption of this Notice.

Pursuant to Section 157.9 of the Commission's rules, 18 CFR 157.9, within 90 days of this Notice the Commission staff will either: Complete its environmental assessment (EA) and place it into the Commission's public record (eLibrary) for this proceeding, or issue a Notice of Schedule for Environmental Review. If a Notice of Schedule for Environmental Review is issued, it will indicate, among other milestones, the anticipated date for the Commission staff's issuance of the EA for this proposal. The filing of the EA in the Commission's public record for this proceeding or the issuance of a Notice of Schedule for Environmental Review will serve to notify federal and state agencies of the timing for the completion of all necessary reviews, and the subsequent need to complete all federal authorizations within 90 days of the date of issuance of the Commission staff's EA.

There are two ways to become involved in the Commission's review of this project. First, any person wishing to obtain legal status by becoming a party to the proceedings for this project should, on or before the comment date stated below file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 7 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the eFiling link at http://www.ferc.gov. Persons unable to file electronically should submit an original and 5 copies of the protest or intervention to the Federal Energy regulatory Commission, 888 First Street NE., Washington, DC 20426.

Comment Date: 5:00 p.m. Eastern Time on August 9, 2017.

Dated: July 19, 2017.
Kimberly D. Bose,
Secretary.

[FR Doc. 2017-15550 Filed 7-24-17; 8:45 am]

BILLING CODE 6717-01-P